ENVIRONMENTAL PROTECTION AGENCY

[FRL-OP-OFA-130]

Environmental Impact Statements; Notice of Availability

Responsible Agency: Office of Federal Activities, General Information 202-564-5632 or https://www.epa.gov/nepa.

Weekly receipt of Environmental Impact Statements (EIS)

Filed June 3, 2024 10 a.m. EST Through June 10, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240101, Draft, USAF, GU, F-15 Beddown and Infrastructure Upgrades at Andersen Air Force Base, Guam, Comment Period Ends: 07/29/2024, Contact: David Martin 210-925-4266.

EIS No. 20240102, Draft, USGS, WI, Proposed Development of an Updated Facility for USGS National Wildlife Health Center Madison, Wisconsin, Comment Period Ends: 07/29/2024, Contact: Jordan Sizemore 603-730-7743.

EIS No. 20240103, Final, BLM, NV, Greenlink West Transmission Project, Review Period Ends: 07/15/2024, Contact: Brian Buttazoni 775-861-6491.

EIS No. 20240104, Final, USFS, CO, Grand Mesa, Uncompahgre and Gunnison National Forests Plan Revision, Review Period Ends: 07/15/2024, Contact: Samantha Staley 970-852-9812.

EIS No. 20240105, Final, NHTSA, REG, Corporate Average Fuel Economy Standards for Passenger Cars and Light Trucks, Model Years 2027 and Beyond, and Fuel Efficiency Standards for Heavy-Duty Pickup Trucks and Vans, Model Years 2030 and Beyond, Contact: Claire Hepper McManus 771-216-6844.

Under 23 U.S.C. 139(n)(2), the National Highway Traffic Safety Administration has issued a combined final environmental impact statement and record of decision. Therefore, the 30-day wait/review period under NEPA does not apply to this action.

Amended Notice:

EIS No. 20240072, Draft, NRC, MN, Site-Specific Environmental Impact Statement for License Renewal of Nuclear Plants Supplement 26, Second Renewal Regarding Subsequent License Renewal for Monticello Nuclear Generating Plant, Unit 1, Comment Period Ends: 06/25/2024, Contact: Jessica Umana 301-415-5207.

Revision to FR Notice Published 05/03/2024; Extending the Comment Period from 06/10/2024 to 06/25/2024.

Dated: June 10, 2024.
Nancy Abrams,
Associate Director, Office of Federal Activities.

[FR Doc. 2024-13133 Filed 6-13-24; 8:45 am]

BILLING CODE 6560-50-P